FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Amerifreight (N.A.), Inc. dba Freight Team dba iGlobal US (NVO & OFF), 15930 Valley Boulevard, City of Industry, CA 91744. Officers: Kwong Chi (A.K.A. Elton) Chung, President (QI), James Lin, Secretary, Application Type: QI Change.

Amexlog Corporation dba Amex Logistics Corp (NVO & OFF), 1970 NW 70th Avenue, Miami, FL 33126. Officers: Jorge X. de Tuya, Vice President (QI), Orestes F. Romero, President, Application Type: New NVO & OFF License.

Canfleet Logistics Ltd. (NVO), 1408-700 West Pender Street, Vancouver, B.C. V6C 1G8. Officers: Monica H. Yen, President (QI), Vincent Yen, Secretary, Application Type: New NVO License.

CTS Global Logistics (Georgia) Inc. dba CTS Global Supply Chain Solutions (NVO & OFF), 5192 Southridge Parkway, Suite 117, Atlanta, GA 30349. Officers: Zong Wen (David) Chen, Vice President (QI), Xian-Zhong (David) Cai, President, Application Type: QI Change.

DS Logistics Global, Inc. (NVO), 13353 Alondra Blvd., Suite 207, Santa Fe Springs, CA 90670. Officer: Susan W. Lee, President (QI), Application Type: New NVO License.

International Logistics Associates LLC (NVO & OFF), 1852 Holly Road, North Brunswick, NJ 08902. Officers: Ravi S. Sarvothaman, Member (QI), Man Kong L. Suen, Member, Application Type: New NVO & OFF License.

Jacobson Global Logistics, Inc. (NVO & OFF), 18209 80th Avenue South, Suite A, Kent, WA 98032. Officers: Jeanne H. Sargent, Vice President (QI), James G. Smith, CFO, Application Type: QI Change.

Thomas M. Beidleman dba A.C.S. Forwarding (OFF), 2964 Alvarado Street, Terminal G, San Leandro, CA 94577. Officer: Thomas M. Beidleman, Sole Proprietor (QI), Application Type: Trade Name Change to Blue Ocean Express.

United Harbour Logistics LLC (NVO), 2251 S. Bon View Avenue, Ontario, CA 91761, Officer: Phuong (A.K.A. Jay) La, Member (QI), Application Type: New NVO License.

By the Commission.
Dated: November 15, 2013.
Karen V. Gregory,
Secretary.

[FR Doc. 2013-27842 Filed 11-20-13; 8:45 am]

BILLING CODE 6730-01-P